DEPARTMENT OF COMMERCE

International Trade Administration

[A-570-904]

Certain Activated Carbon From the People's Republic of China: Notice of Partial Rescission of Antidumping Duty Administrative Review

AGENCY: Import Administration, International Trade Administration, Department of Commerce.

DATES: Effective Date: July 7, 2011.

FOR FURTHER INFORMATION CONTACT: Catherine Bertrand, AD/CVD Operations, Office 9, Import Administration, International Trade Administration, U.S. Department of Commerce, 14th Street and Constitution Avenue, NW., Washington, DC 20230; telephone—(202) 482-3207.

Background

On May 27, 2011, the Department of Commerce (“Department”) published in the Federal Register a notice of initiation of an administrative review of the antidumping duty order on certain activated carbon from the People's Republic of China (“PRC”) covering the period April 1, 2010, to March 31, 2011. See Initiation of Antidumping and Countervailing Duty Administrative Reviews, 76 FR 30912, 30913 (May 27, 2011) (“Initiation Notice”).

On June 10, 2011, Petitioners ¹ withdrew their request for an administrative review for the following companies: Calgon Carbon (Tianjin) Co., Ltd. (“CCT”) and Ningxia Huahui Activated Carbon Co., Ltd. (“Huahui”). On June 10, 2011, Huahui withdrew its request for a review of itself that was originally submitted on April 29, 2011. Then, on June 10, 2011, Albemarle Corporation (“Albemarle”), a company we previously determined to be a wholesaler of the domestic-like product, withdrew its request for review of CCT previously submitted on April 29, 2011. Likewise, on June 15, 2011, CCT withdrew its request for a review of itself originally submitted on April 29, 2011.

¹ Petitioners are Calgon Carbon Corporation & Norit Americas Inc., collectively.

Partial Rescission

Pursuant to 19 CFR 351.213(d)(1), the Secretary will rescind an administrative review, in whole or in part, if a party who requested the review withdraws the request within 90 days of the date of publication of notice of initiation of the requested review. The aforementioned requests for review were withdrawn within the 90-day period. Because the requests for review were timely withdrawn and because no other party requested a review of the aforementioned companies, in accordance with 19 CFR 351.213(d)(1), we are partially rescinding this review with respect to CCT and Huahui.

Assessment Rates

The Department will instruct U.S. Customs and Border Protection (“CBP”) to assess antidumping duties on all appropriate entries. Both CCT and Huahui have a separate rate from a prior segment of this proceeding; therefore, antidumping duties shall be assessed at rates equal to the cash deposit of estimated antidumping duties required at the time of entry, or withdrawal from warehouse, for consumption, in accordance with 19 CFR 351.212(c)(2). Accordingly, the Department intends to issue appropriate assessment instructions directly to CBP 15 days after publication of this notice for CCT and Huahui.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: June 30, 2011.
Christian Marsh,
Deputy Assistant Secretary for Antidumping and Countervailing Duty Operations.

[FR Doc. 2011-17069 Filed 7-6-11; 8:45 am]

BILLING CODE 3510-DS-P